ENVIRONMENTAL PROTECTION AGENCY

[FRL OP-OFA-069]

Environmental Impact Statements; Notice of Availability

Responsible Agency: Office of Federal Activities, General Information 202-564-5632 or https://www.epa.gov/nepa.

Weekly receipt of Environmental Impact Statements (EIS)

Filed May 1, 2023 10 a.m. EST Through May 8, 2023 10 a.m. EST

Pursuant to 40 CFR 1506.9

Notice

Section 309(a) of the Clean Air Act requires that EPA make public its comments on EISs issued by other Federal agencies. EPA's comment letters on EISs are available at: https://cdxapps.epa.gov/cdx-enepa-II/public/action/eis/search.

EIS No. 20230062, Draft, USA, AK, Draft Legislative Environmental Impact Statement for the Public Law 106-65 Land Withdrawal Extension, Comment Period Ends: 07/11/2023, Contact: Grant Sattler 907-353-6701

EIS No. 20230063, Final, USFS, AK, Mendenhall Glacier Visitor Facility Improvements, Review Period Ends: 06/26/2023, Contact: Monique Nelson 907-209-4090

Amended Notice

EIS No. 20230005, Draft, BLM, ND, North Dakota Resource Management Plan Revision, Comment Period Ends: 05/22/2023, Contact: Kristine Braun 701-227-7725

Revision to FR Notice Published 01/20/2023; Extending the Comment Period from 04/20/2023 to 05/22/2023.

Dated: May 8, 2023.
Cindy S. Barger,
Director, NEPA Compliance Division, Office of Federal Activities.

[FR Doc. 2023-10161 Filed 5-11-23; 8:45 am]

BILLING CODE 6560-50-P